NATIONAL AERONAUTICS AND SPACE ADMINISTRATION

[Notice: 24-043]

Interagency Nuclear Safety Review Board; Meeting

AGENCY: National Aeronautics and Space Administration (NASA)

ACTION: Notice of meeting.

SUMMARY: NASA, as the administering agency of the Interagency Nuclear Safety Review Board (INSRB) created by National Security Presidential Memorandum, invites all interested parties to participate in a meeting in which current INSRB members and alternates will provide information about the INSRB's processes and practices, as well as answer submitted questions.

DATES: The meeting will take place in a fully virtual format, using Microsoft Teams, from 3 to 4 p.m. EST on August 29, 2024. Questions must be submitted by August 15, 2024. The meeting will be recorded and the video of the recording will be posted publicly.

ADDRESSES: Requests to participate (i.e., to be sent the meeting link), as well as submitting questions (if desired) should be directed to donald.m.helton@nasa.gov.

FOR FURTHER INFORMATION CONTACT: For other matters related to the meeting, contact Donald Helton, 202-358-0311, donald.m.helton@nasa.gov.

SUPPLEMENTARY INFORMATION:

I. Background: National Security Presidential Memorandum No. 20 (NSPM-20) directed the NASA Administrator to establish the INSRB to replace the ad hoc Interagency Nuclear Safety Review Panels used for prior missions. The INSRB was first empaneled in 2020, and per NSPM-20 consists of “representatives from the Departments of State, Defense, Energy, and Transportation, the Environmental Protection Agency, NASA, and, as appropriate, the Nuclear Regulatory Commission.” Following its formation, the INSRB issued a Charter, as well as a guidance document known as the INSRB Playbook. While the INSRB's scope is defined by NSPM-20, and while its conduct of operations is described in the INSRB Charter and the INSRB Playbook, the INSRB has continued to receive questions from the community-at-large that suggest misunderstandings. The INSRB is hosting this virtual open house as a diverse means of communicating to interested parties about what the INSRB is and is not charged to do, and how it conducts its business.

II. Resources: The INSRB Charter and INSRB Playbook are publicly available at the following link: https://sma.nasa.gov/sma-disciplines/nuclear-flight-safety. This same web page contains an INSRB brochure and an INSRB presentation that will form the basis for the remarks made during the virtual open house.

Dated: June 21, 2024.
Donald Helton,
NASA Nuclear Flight Safety Officer.

[FR Doc. 2024-14021 Filed 6-26-24; 8:45 am]

BILLING CODE 7510-13-P